DEPARTMENT OF ENERGY

Bonneville Power Administration

Leaning Juniper II Wind Project

AGENCY: Bonneville Power Administration (BPA), Department of Energy (DOE).

ACTION: Notice of Record of Decision (ROD).

SUMMARY: This notice announces the availability of the ROD to offer contract terms for interconnection of up to 200 megawatts of wind generation from the Iberdrola Renewables, Inc.'s proposed Leaning Juniper II Wind Project into the Federal Columbia River Transmission System. This decision is consistent with and tiered to BPA's Business Plan Final Environmental Impact Statement (DOE/EIS-0183, June 1995), and the Business Plan Record of Decision (BP ROD, August 15, 1995). The wind project will be interconnected at BPA's Jones Canyon Switching Station (SS), about three miles southwest of Arlington, Gilliam County, Oregon. The Jones Canyon SS will provide the wind project with transmission access to BPA's McNary-Jones Canyon 230-kilovolt transmission line and the Jones Canyon-Santiam 230-kilovolt transmission line.

ADDRESSES: Copies of the ROD and EIS may be obtained by calling BPA's toll-free document request line, 1-800-622-4520. The ROD and EIS Summary are also available on our Web site, http://www.efw.bpa.gov.

FOR FURTHER INFORMATION CONTACT: Andrew M. Montaño, Bonneville Power Administration—KEC-4, P.O. Box 3621, Portland, Oregon 97208-3621; toll-free telephone number 1-800-622-4519; fax number 503-230-5699; or e-mail ammontano@bpa.gov.

Issued in Portland, Oregon, on April 3, 2009.
Stephen J. Wright,
Administrator and Chief Executive Officer.

[FR Doc. E9-9094 Filed 4-20-09; 8:45 am]

BILLING CODE 6450-01-P